DEPARTMENT OF STATE

[Public Notice 5015]

Notice Convening an Accountability Review Board for the December 6, 2004, Attack on the U.S. Consulate in Jeddah, Saudi Arabia

Pursuant to section 301 of the Omnibus Diplomatic Security and Antiterrorism Act of 1986, as amended (22 U.S.C. 4831 et seq.), I have determined that the December 6, 2004, attack on the U.S. Consulate in Jeddah, Saudi Arabia involved loss of life and serious injury at or related to a U.S. mission abroad. Therefore, I am convening an Accountability Review Board, as required by that statute, to examine the facts and the circumstances of the attack and to report to me such findings and recommendations as it deems appropriate, in keeping with their mandate.

I have appointed David C. Fields, a retired U.S. ambassador, as Chair of the Board. He will be assisted by Melvin Harrison, John Geoff O'Connell, Carolee Heileman, Robert Benedetti and by the Executive Secretary to the Board, Mark Jackson. They bring to their deliberations distinguished backgrounds in government service and in the private sector.

The Board will submit its conclusions and recommendations to me within 60 days of its first meeting, unless the Chair determines a need for additional time. Appropriate action will be taken and reports submitted to Congress on any recommendations made by the Board.

Anyone with information relevant to the Board's examination of this incident should contact the Board promptly at (202) 647-5204 or send a fax to the Board at (202) 647-3282.

This notice shall be published in the Federal Register.

Dated: March 4, 2005.
Condoleezza Rice,
Secretary of State, Department of State.

[FR Doc. 05-4831 Filed 3-10-05; 8:45 am]

BILLING CODE 4710-35-P